DEPARTMENT OF COMMERCE

International Trade Administration

[C-570-968]

Aluminum Extrusions From the People's Republic of China: Countervailing Duty Order

AGENCY: Import Administration, International Trade Administration, Department of Commerce.

DATES: Effective Date: May 26, 2011.

SUMMARY: Based on affirmative final determinations by the Department of Commerce (the “Department”) and the International Trade Commission (“ITC”), the Department is issuing a countervailing duty order on aluminum extrusions from the People's Republic of China (“PRC”).

FOR FURTHER INFORMATION CONTACT: John Conniff, AD/CVD Operations, Office 3, Import Administration, International Trade Administration, U.S. Department of Commerce, 14th Street and Constitution Avenue, NW., Washington, DC 20230; telephone: 202/482-1009. Case History: On April 4, 2011, the Department published its final determination in the countervailing duty investigation of aluminum extrusions from the PRC. See Aluminum Extrusions From the People's Republic of China: Final Affirmative Countervailing Duty Determination, 76 FR 18521, (April 4, 2011) (Final Determination).

On May 13, 2010, the ITC notified the Department of its affirmative determination of material injury by reason of imports of certain aluminum extrusions from the PRC, and its negative determination of material injury, threat of material injury, or that the establishment of an industry is not materially retarded by reason of imports of finished heat sinks from the PRC. See Aluminum Extrusions from China (Investigation No. 731-TA-1177, USITC Publication 4229 (May 2011) (ITC Final Determination)).

Revision of Scope

On April 4, 2011, the Department published its affirmative final determination in this proceeding. See Final Determination. On May 13, 2011, the ITC notified the Department of its affirmative finding of injury with respect to imports of certain aluminum extrusions from the PRC and its negative injury finding with respect to imports of finished heat sinks from the PRC. Therefore, the Department is revising the scope of the subject merchandise stated in the final determination to exclude finished heat sinks from the scope of the order. In its instructions to the investigation questionnaire, the ITC described heat sinks as a subset of aluminum extrusions typically used in electronic equipment as a thermal controlling tool and stated that they are usually referred to as (1) heat sink blanks, (2) fabricated heat sinks, or (3) finished heat sinks.¹ Heat sink blanks are the full length aluminum extrusions used to produce finished heat sinks. These are generally the pre-fabricated, pre-tested inputs in the production of heat sinks (post any stretching or aging processes applied). Fabricated heat sinks are generally understood to be any heat sink blank that has been cut-to-length, precision machined, and or otherwise fabricated to the end product specifications, but not yet tested, assembled onto other materials, or packaged. Finished heat sinks differ from fabricated heat sinks in that they have been fully, albeit not necessarily individually, tested and assured to comply with the required thermal performance end-use specifications. Only finished heat sinks are excluded from the scope of the order.² See Scope of the Order, below.

¹ See INSTRUCTION BOOKLET: GENERAL INFORMATION, INSTRUCTIONS, AND DEFINITIONS FOR COMMISSION QUESTIONNAIRES Aluminum Extrusions from China Inv. Nos. 701-TA-475 and 731-TA-1177 (Final) at 6-7, located at: http://www.usitc.gov/trade_remedy/731_ad_701_cvd/investigations/2010/aluminum_extrusions/final/PDF/_Instructions_US.pdf.

² See id.

Scope of the Order

The merchandise covered by this order is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (“drawn aluminum”) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including bright-dip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods “kit” defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation.

The following aluminum extrusion products are excluded: Aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled “as is” into a finished product. An imported product will not be considered a “finished goods kit” and therefore excluded from the scope of the investigation merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) Length of 37 mm or 62 mm, (2) outer diameter of 11.0 mm or 12.7 mm, and (3) wall thickness not exceeding 0.13 mm. Also excluded from the scope of this order are finished heat sinks. Finished heat sinks are fabricated heat sinks made from aluminum extrusions the design and production of which are organized around meeting certain specified thermal performance requirements and which have been fully, albeit not necessarily individually, tested to comply with such requirements.

Imports of the subject merchandise are provided for under the following categories of the Harmonized Tariff Schedule of the United States (“HTS”): 7604.21.0000, 7604.29.1000, 7604.29.3010, 7604.29.3050, 7604.29.5030, 7604.29.5060, 7608.20.0030, and 7608.20.0090. The subject merchandise entered as parts of other aluminum products may be classifiable under the following additional Chapter 76 subheadings: 7610.10, 7610.90, 7615.19, 7615.20, and 7616.99 as well as under other HTS chapters. In addition, fin evaporator coils may be classifiable under HTS numbers: 8418.99.80.50 and 8418.99.80.60. While HTS subheadings are provided for convenience and customs purposes, the written description of the scope of the order is dispositive.

Countervailing Duty Order

On September 7, 2010, the Department published its Preliminary Determination and instructed U.S. Customs and Border Protection (“CBP”) to suspend liquidation of all entries of subject merchandise entered or withdrawn from warehouse, for consumption, on or after September 7, 2010. See Aluminum Extrusions from the People's Republic of China: Preliminary Affirmative Countervailing Duty Determination, 75 FR 54302 (September 7, 2010) (Preliminary Determination). In accordance with section 703(d) of the Tariff Act of 1930, as amended (“the Act”), which states that the suspension of liquidation pursuant to a preliminary determination may not remain in effect for more than four months, the Department terminated suspension of liquidation effective January 6, 2011.

On April 4, 2011, the Department published its final determination in the countervailing duty investigation of aluminum extrusions from the PRC. See Final Determination. On May 13, 2011, in accordance with section 705(d) of the Act, the ITC notified the Department of its final determination that the industry in the United States producing aluminum extrusions is materially injured within the meaning of section 705(b)(1)(A)(i) of the Act by reason of subsidized imports of aluminum extrusions from the PRC. See ITC Final Determination.

In accordance with section 706(a)(1) of the Act, the Department will direct CBP to reinstitute suspension of liquidation effective the date of publication of the ITC final determination in the Federal Register. The Department will also direct CBP to assess, upon further advice by the Department pursuant to section 706(a)(1) of the Act, countervailing duties for each entry of the subject merchandise in an amount based on the net countervailable subsidy rates for the subject merchandise as noted below.

Company | Ad valorem net subsidy rate
Guang Ya Aluminum Industries Co., Ltd., Foshan Guangcheng Aluminum Co., Ltd., Guang Ya Aluminum Industries Hong Kong, Kong Ah International Company Limited, and Yongji Guanghai Aluminum Industry Co., Ltd. (collectively the Guang Ya Companies) | 9.94 percent ad valorem.
Zhaoqing New Zhongya Aluminum Co., Ltd., Zhongya Shaped Aluminum HK Holding Ltd., and Karlton Aluminum Company Ltd. (collectively the Zhongya Companies) | 8.02 percent ad valorem.
Dragonluxe Limited | 374.15 percent ad valorem.
Miland Luck Limited | 374.15 percent ad valorem.
Liaoyang Zhongwang Aluminum Profile Co. Ltd./Liaoning Zhongwang Group (collectively, the Zhongwang Group). | 374.15 percent ad valorem.
All Others Rate | 374.15 percent ad valorem.

This notice constitutes the countervailing duty order with respect to aluminum extrusions from the PRC, pursuant to section 706(a) of the Act. Interested parties may contact the Department's Central Records Unit, Room 7046 of the main Commerce building, for copies of an updated list of countervailing duty orders currently in effect.

Termination of Suspension of Liquidation for Finished Heat Sinks

Because the ITC made a negative determination of material injury with respect to finished heat sinks, the Department will direct CBP to terminate the suspension of liquidation for entries of finished heat sinks from the PRC entered, or withdrawn from warehouse, and to release any bond or other security, and refund any cash deposit, posted to secure the payment of estimated countervailing duties with respect to these entries.

This order is issued and published in accordance with section 706(a) of the Act, 19 CFR 351.211(b) and 19 CFR 351.224(e).

Dated: May 20, 2011.
Ronald K. Lorentzen,
Deputy Assistant Secretary for Import Administration.

[FR Doc. 2011-13103 Filed 5-25-11; 8:45 am]

BILLING CODE 3510-DS-P